DEPARTMENT OF HOUSING AND URBAN DEVELOPMENT

[Docket No. FR-5124-N-12]

Notice of Proposed Information Collection for Public Comment: PHA Plans Standard Template

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal. This is a revision to a currently approved collection.

DATES: Comments Due Date: October 15, 2007.

ADDRESSES: Interested persons are invited to submit comments regarding this proposal. Comments should refer to the proposal by name/or OMB Control number and should be sent to: Aneita Waites, Reports Liaison Officer, Public and Indian Housing, Department of Housing and Urban Development, 451 7th Street, SW., Room 4116, Washington, DC 20410-5000.

FOR FURTHER INFORMATION CONTACT: Aneita Waites, (202) 402-4114, for copies of the proposed forms and other available documents. (This is not a toll-free number).

SUPPLEMENTARY INFORMATION: The Department will submit the proposed information collection to OMB review, as required by the Paperwork Reduction Act of 1995 (44 U.S.C. Chapter 35, as amended). This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology, e.g., permitting electronic submission of responses.

Title of Proposal: 5-Year and Annual Public Housing Agency (PHA) Plan.

OMB Control Number: 2577-0226.

Description of the Need for the Information and Proposed Use: Public Housing Agencies (PHAs) submit an annual plan for each fiscal year for which the PHA receives tenant-based assistance and public housing operating subsidy. This plan provides a framework for local accountability and to the extent possible, an easily identifiable source by which public housing residents, participants in the housing choice voucher program, and other members of the public may locate housing and services. The PHA plan is a web-based application (allowing PHAs to retrieve the applicable templates) that allows PHAs to provide their plans to HUD via the Internet. The system allows HUD to track plans every year with limited reporting and any changes from the previous submission.

Agency Form Numbers: HUD-50075; HUD-50077.

Members of the Affected Public: State and local government.

Estimation of The Total Number of Hours Needed To Prepare the Information Collection Including Number of Respondents
PHA plan—form HUD-50075 | PH/HCV | HCV only | Frequency | Total responses | Estimated hours | Annual plan burden hours | 5-year plan burden hours
1.0 PHA Information | 3163 | 976 | 1 | 4139 | 0.02 | 82.78 |
2.0 Inventory | 3163 | 976 | 1 | 4139 | 0.02 | 82.78 |
3.0 Submission Type | 3163 | 976 | 1 | 4139 | 0.02 | 82.78 |
4.0 PHA Consortia | 50 | 20 | 1 | 70 | 0.03 | 2.1 |
5.0 Five-Year Plan | 3163 | 976 | 1 | 4139 | 2 |  | 8278
6.0 Plan Elements not Subject to HUD Review | 3163 | 976 | 1 | 4139 | 0.07 | 289.73 |
7.0 Hope VI, Mixed Finance Modernization or Development, Demolition/Disposition, Conversion of Public Housing, Homeownership Programs, and Project-based Vouchers | 1000 | 400 | 1 | 1400 | 2 | 2800 |
8.0 Capital Fund Financing (CFFP) | 316 | 0 | 1 | 316 | 0.02 | 6.32 |
9.0 Housing Needs | 3163 | 976 | 1 | 4139 | 1.3 | 5380.7 |
9.1 Strategy for Addressing Housing Needs | 3163 | 976 | 1 | 4139 | 1.3 | 5380.7 |
10.0 Additional Information | 200 | 0 | 1 | 200 | 1.5 | 300 |
11.0 Required Submissions—forms HUD-50070, HUD-50071, HUD-50077, SF-LLL, SF-LLL-A | 3163 | 976 | 1 | 4139 | 0.4 | 1655.6 |
Form HUD-50075.1 | 3163 | 0 | 1 | 3163 | 8 | 25304 |
Form HUD-50075.2 | 3163 | 0 | 1 | 3163 | 3 | 9489 |
Annual Plan Burden Hours |  |  |  |  |  | 50856.49 |
5-Year Plan Burden Hours |  |  |  |  |  |  | 8278
Total Burden Hours − (Annual Plan Burden Hours * 5/yrs + 5-year Plan burden hours) | 262560 |  |  |  |  |  |
Average Burden Hours for all PHAs − (Total burden hours/5yrs) | 52512.1 |  |  |  |  |  |
Average Burden Hours Per PHA − (Average burden hours for all PHAs/4139 PHAs) | 12.6871 |  |  |  |  |  |

Status of the Proposed Information Collection: Reinstatement of previously approved collection.

Authority: Section 3506 of the Paperwork Reduction Act of 1995, 44 U.S.C. Chapter 35, as amended.

Dated: August 8, 2007.
Bessy Kong,
Deputy Assistant Secretary for Policy, Program, and Legislative Initiatives.

[FR Doc. E7-15940 Filed 8-14-07; 8:45 am]

BILLING CODE 4210-67-P